DEPARTMENT OF LABOR

Employment and Training Administration

[TA-W-38,713, et al.]

AgriFrozen Foods, Woodburn, OR, et al.; Amended Certification Regarding Eligibility To Apply for Worker Adjustment Assistance

In accordance with section 223 of the Trade Act of 1974 (19 U.S.C. 2273) the Department of Labor issued a Certification of Eligibility to Apply for Worker Adjustment Assistance on April 17, 2001, applicable to workers of AgriFrozen Foods, Woodburn, Oregon. The notice was published in the Federal Register on May 3, 2001 (66 FR 22262).

At the request of the State agency, the Department reviewed the certification for workers of the subject firm. The workers are engaged in the production of frozen vegetables. New findings show that worker separations occurred at the Administrative Office of AgriFrozen Foods located in Salem, Oregon. The Salem, Oregon location is the headquarters office and provides administrative support functions to AgriFrozen's production facilities including Woodburn, Oregon.

The intent of the Department's certification is to include all workers of AgriFrozen Foods adversely affected by increased imports of frozen vegetables.

Accordingly, the Department is amending the certification to properly reflect this matter.

The amended notice applicable to TA-W-38,713 is hereby issued as follows:

All workers of AgriFrozen Foods, Woodburn, Oregon (TA-W-38,713) and Administrative Office, Salem, Oregon (TA-W-38,713A) who became totally or partially separated from employment on or after February 9, 2000 through April 17, 2003 are eligible to apply for adjustment assistance under section 223 of the Trade Act of 1974.

Signed at Washington, DC this 22nd day of May, 2001.
Edward A. Tomchick,
Director, Division of Trade Adjustment Assistance.

[FR Doc. 01-14421 Filed 6-7-01; 8:45 am]

BILLING CODE 4510-30-M